NUCLEAR REGULATORY COMMISSION

[Docket No. 50-361; NRC-2013-0070]

Application and Amendment to Facility Operating License Involving Proposed No Significant Hazards Consideration Determination; San Onofre Nuclear Generating Station, Unit 2

AGENCY: Nuclear Regulatory Commission.

ACTION: License amendment request; opportunity to comment, request a hearing, and petition for leave to intervene.

SUMMARY: The U.S. Nuclear Regulatory Commission (NRC) is considering issuance of an amendment to Facility Operating License No. NPF-10, issued to Southern California Edison (SCE, the licensee), for operation of the San Onofre Nuclear Generating Station (SONGS), Unit 2. The proposed amendment makes a temporary change to the steam generator management program and the license condition for maximum power. For the duration of Unit 2, Cycle 17, the proposed amendment would change the terms “full range of normal operating conditions” and “normal steady state full power operation” and restricts operation to 70 percent of the maximum authorized power level. “Full range of normal operating conditions” and “normal steady state full power operation” shall be based upon the steam generators being operated under conditions associated with reactor core power levels up to 70 percent Rated Thermal Power (2406.6 megawatts thermal).

DATES: Submit comments by May 16, 2013. Requests for a hearing or petition for leave to intervene must be filed by June 17, 2013.

ADDRESSES: You may submit comments by any of the following methods (unless this document describes a different method for submitting comments on a specific subject):

• Federal Rulemaking Web site: Go to http://www.regulations.gov and search for Docket ID NRC-2013-0070. Address questions about NRC dockets to Carol Gallagher; telephone: 301-492-3668; email: Carol.Gallagher@nrc.gov. For technical questions, contact the individual(s) listed in the FOR FURTHER INFORMATION CONTACT section of this document.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

FOR FURTHER INFORMATION CONTACT: Brian Benney, Office of Nuclear Reactor Regulation, U.S. Nuclear Regulatory Commission, Washington, DC 20555; telephone: 301-415-2767; email: Brian.Benney@nrc.gov.

SUPPLEMENTARY INFORMATION:

I. Accessing Information and Submitting Comments

A. Accessing Information

Please refer to Docket ID NRC-2013-0070 when contacting the NRC about the availability of information regarding this document. You may access information related to this document, which the NRC possesses and is publicly available, by any of the following methods:

• Federal Rulemaking Web site: Go to http://www.regulations.gov and search for Docket ID NRC-2013-0070.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. The application for amendment, dated April 5, 2013, as supplemented on April 9, 2013, is available in ADAMS under Accession Nos. ML13098A043 and ML13100A021, respectively.

• NRC's PDR: You may examine and purchase copies of public documents at the NRC's PDR, Room O1-F21, One White Flint North, 11555 Rockville Pike, Rockville, Maryland 20852.

B. Submitting Comments

Please include Docket ID NRC-2013-0070 in the subject line of your comment submission, in order to ensure that the NRC is able to make your comment submission available to the public in this docket.

The NRC cautions you not to include identifying or contact information that you do not want to be publicly disclosed in you comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Introduction

The NRC is considering issuance of an amendment to Facility Operating License No. NPF-10, issued to SCE, for operation of SONGS Unit 2, located in San Diego County, California.

The proposed amendment makes a temporary change to the steam generator management program and the license condition for maximum power. For the duration of Unit 2, Cycle 17, the proposed amendment would change the terms “full range of normal operating conditions” and “normal steady state full power operation” and restricts operation to 70 percent of the maximum authorized power level. “Full range of normal operating conditions” and “normal steady state full power operation” shall be based upon the steam generators being operated under conditions associated with reactor core power levels up to 70 percent Rated Thermal Power (2406.6 megawatts thermal). Before any issuance of the proposed license amendment, the Commission will have made findings required by the Atomic Energy Act of 1954, as amended (the Act), and the Commission's regulations.

The Commission has made a proposed determination that the license amendment request involves no significant hazards consideration. Under the Commission's regulations in § 50.92 of Title 10 of the Code of Federal Regulations (10 CFR), this means that operation of the facility in accordance with the proposed amendment would not (1) Involve a significant increase in the probability or consequences of an accident previously evaluated; or (2) create the possibility of a new or different kind of accident from any accident previously evaluated; or (3) involve a significant reduction in a margin of safety. As required by 10 CFR 50.91(a), the licensee has provided its analysis of the issue of no significant hazards consideration, which is presented below:

1. Does the proposed change involve a significant increase in the probability or consequences of an accident previously evaluated?

Response: No.

The proposed change would reduce the power level for San Onofre Nuclear Generating Station (SONGS) Unit 2 for Cycle 17.

The proposed changes do not affect the probability of any accident initiators because there is no adverse effect on plant operations or plant conditions. The proposed revisions will require that tube integrity will be demonstrated up to 70% Rated Thermal Power and that operation of the SONGS Unit 2 steam generators will be limited to a maximum reactor power level of 70%. As a result, the change will continue to ensure that tube integrity is retained over the range of power levels at which the plant will operate. The proposed change to reduce the power level will not affect the probability of any accident initiators because the only effect on plant operations is to lower the allowable power level. Operation at reduced power is acceptable under the current licensing basis and operation of the plant will remain bounded by the assumptions of the analyses of accidents previously evaluated in the UFSAR [Updated Final Safety Analysis Report].

The proposed changes do not create any new mode of plant operation. The proposed changes do not result in a change to any design function nor do the proposed changes affect any analysis that verifies the capability of a system, structure or component to perform a design function.

The proposed changes maintain consistency between the conditions for which the structural integrity performance criteria (SIPC) must be demonstrated with the maximum power levels at which SONGS Unit 2 will be authorized to operate. SCE will be required to perform operational assessments for steam generator tube integrity as required by the current Technical Specifications for the range of power levels within which SONGS Unit 2 will operate during Cycle 17. The proposed changes do not affect the tube performance criteria for those assessments with the exception that they will be applied over a range of conditions up to and including 70% Rated Thermal Power. Therefore the proposed changes do not involve a significant increase in the probability or consequences of a steam generator tube failure under normal or postulated accident conditions.

As part of the NRC review of SCE's response to the CAL [Confirmatory Action Letter],¹ the NRC provided several Requests for Additional Information (RAls). The response to RAI 11 ² assessed safety analysis methods, analysis acceptance criteria, radiological dose consequences, applicability of Technical Specifications Limiting Conditions for Operation, applicability, action statements, surveillances and impact on performance of Surveillance Requirements. The assessment determined operation at reduced power is acceptable with respect to SONGS Unit 2, Cycle 17 reload core design and safety analysis.

¹ Letter from Mr. Peter T. Dietrich (SCE) to Mr. Elmo E. Collins (USNRC), dated October 3, 2012, Confirmatory Action Letter—Actions to Address Steam Generator Tube Degradation, San Onofre Nuclear Generating Station, Unit 2 (ML12285A263).

² Letter from Mr. Richard J. St Onge to NRC, dated April 2, 2013, Response to Request for Additional Information (RAI 11), Revision 1, Regarding Confirmatory Action Letter Response (TAC No. ME9727), San Onofre Nuclear Generating Station, Unit 2 [ML13094A077].

The assessment that evaluated how Reactor Coolant System (RCS) flow uncertainty is affected by operation at 70% Rated Thermal Power was provided in the response to RAI 12.³ This assessment determined that the increase in secondary calorimetric power uncertainty and RCS flow uncertainties are accounted for in the overall uncertainty analysis required by the reload safety analyses as detailed in the response to RAI 11.

³ Letter from Mr. Richard J. St Onge to NRC, dated January 18, 2013, Response to Request for Additional Information (RAI 12) Regarding Confirmatory Action Letter Response (TAC No. ME9727), San Onofre Nuclear Generating Station, Unit 2 (ML13022A408).

The assessment that evaluated how the existing Emergency Core Cooling System (ECCS) analysis accounts for the changes to the steam generator heat transfer characteristics resulting from the installation of the new steam generators was provided in the response to RAI 13.⁴ The results and conclusions of this evaluation was that operation at 70% Rated Thermal Power remains bounded by the current SONGS Unit 2 ECCS performance Analyses of Record (AOR) for Large Break Loss-of-Coolant Accident (LBLOCA), Small Break Loss-of-Coolant Accident (SBLOCA), and post Loss-of-Coolant Accident (LOCA) Long Term Cooling (LTC).

⁴ Letter from Mr. Richard J. St Onge to NRC, dated April 2, 2013, Response to Request for Additional Information (RAI 13), Revision 1, Regarding Confirmatory Action Letter Response (TAC No. ME9727), San Onofre Nuclear Generating Station, Unit 2 (ML13094A080).

The assessment that evaluated how the mechanical and instrumentation and control (I&C) design evaluations performed to support operation at 70% Rated Thermal Power was provided in the response to RAI 14.⁵ These evaluations are in addition to the evaluations addressed in RAls 11, 12 and 13. The results and conclusions of the RAI 14 evaluations were that power operation at 70% Rated Thermal Power will either remain bounded or will not significantly affect the associated systems and programs.

⁵ Letter from Mr. Richard J. St Onge to NRC, dated January 29, 2013, Response to Request for Additional Information (RAI 14) Regarding Confirmatory Action Letter Response (TAC No. ME9727), San Onofre Nuclear Generating Station, Unit 2 (ML13032A009).

As a result, operation at 70% Rated Thermal Power does not result in a significant increase in the probability or consequences of a previously evaluated accident.

Therefore, the proposed changes do not involve a significant increase in the probability or consequences of an accident previously evaluated.

2. Does the proposed change create the possibility of a new or different kind of accident from any accident previously evaluated?

Response: No.

The proposed changes do not require a change in any plant systems, structures or components or the method of operating the plant other than to reduce power for the duration of Cycle 17. Therefore, the proposed changes do not create the possibility of a new or different kind of accident from any accident previously evaluated.

The proposed changes do not adversely affect the method of operation of the steam generators nor introduce any changes to existing design functions of systems, structures or components that could create the possibility of a new or different kind of accident from any previously evaluated. Also, the proposed change will not introduce any significant changes to postulated accidents resulting from potential tube degradation. Because SONGS Unit 2 will operate at or below 70% Rated Thermal Power, the change will continue to ensure that tube integrity is demonstrated over the range of power levels at which the plant will operate. Therefore, there is no significant increase in the probability that the tubes will fail or leak during the period.

Therefore, the proposed changes do not create the possibility of a new or different kind of accident from any accident previously evaluated.

3. Does the proposed change involve a significant reduction in a margin of safety?

Response: No.

The proposed change to reduce the power level during SONGS Unit 2, Cycle 17, will not reduce any margins of safety.

The effect of operation at 70% Rated Thermal Power does not result in SONGS Unit 2 being operated outside of any currently allowable regulatory or licensing limits. SONGS Unit 2 will operate within its current design and licensing basis. Therefore, this change has no significant impact on any parameter that would affect a design basis limit for a fission product barrier, and there would be no significant impact on any margin of safety associated with such barriers.

The proposed changes will maintain consistency between the power level for the steam generator operational assessments in Technical Specification 5.5.2.11 and the maximum power level specified in License Condition 2.C(1). The tube performance criteria, including the margins of safety specified in Technical Specification 5.5.2.11 are not being changed. The changes will ensure that tube integrity is demonstrated against the unchanged performance criteria over the range of power levels at which the plant will be licensed to operate.

Therefore, the proposed changes do not involve a significant reduction in a margin of safety.

The NRC staff has reviewed the licensee's analysis and, based on this review, it appears that the three standards of 10 CFR 50.92(c) are satisfied. Therefore, the NRC staff proposes to determine that the license amendment request involves no significant hazards consideration.

Attorney for licensee: Douglas K. Porter, Esquire, Southern California Edison Company, 2244 Walnut Grove Avenue, Rosemead, California 91770.

NRC Branch Chief: Douglas Broaddus.

The Commission is seeking public comments on this proposed determination that the license amendment request involves no significant hazards consideration. Any comments received within 30 days after the date of publication of this notice will be considered in making any final determination.

Normally, the Commission will not issue the amendment until the expiration of 60 days after the date of publication of this notice. The Commission may issue the license amendment before expiration of the 60-day notice period if the Commission concludes the amendment involves no significant hazards consideration. In addition, the Commission may issue the amendment prior to the expiration of the 30-day comment period should circumstances change during the 30-day comment period such that failure to act in a timely way would result, for example, in prevention of either resumption of operation or of increase in power output up to the plant's licensed power level. Should the Commission take action prior to the expiration of either the comment period or the notice period, it will publish in the Federal Register a notice of issuance. Should the Commission make a final No Significant Hazards Consideration Determination, any hearing will take place after issuance.

II. Opportunity To Request a Hearing and Petition for Leave To Intervene

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR part 2. Interested person(s) should consult a current copy of 10 CFR 2.309, which is available at the NRC's PDR, located at O1F21, 11555 Rockville Pike (first floor), Rockville, Maryland 20852. The NRC regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the petitioner intends to rely in proving the contention at the hearing. The requestor/petitioner must also provide references to those specific sources and documents of which the petitioner is aware and on which the petitioner intends to rely to establish those facts or expert opinion. The requestor/petitioner must include sufficient information to show that a genuine dispute exists with the applicant on a material issue of law or fact. Contentions shall be limited to matters within the scope of the amendment under consideration. The contention must be one which, if proven, would entitle the petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

IV. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least ten 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the NRC's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with the NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call to 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) first class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from April 16, 2013. Requests for hearing, petitions for leave to intervene, and motions for leave to file new or amended contentions that are filed after the 60-day deadline will not be entertained absent a determination by the presiding officer that the filing demonstrates good cause by satisfying the following three factors in 10 CFR 2.309(c)(1): (i) The information upon which the filing is based was not previously available; (ii) the information upon which the filing is based is materially different from information previously available; and (iii) the filing has been submitted in a timely fashion based on the availability of the subsequent information.

For further details with respect to this action, see the application for license amendment dated April 5, 2013, as supplemented on April 9, 2013.

Dated at Rockville, Maryland, this 10th day of April 2013.
For the Nuclear Regulatory Commission.
Brian J. Benney,
Senior Project Manager, SONGS Special Projects Branch, Division of Operating Reactor Licensing, Office of Nuclear Reactor Regulation.

[FR Doc. 2013-08888 Filed 4-15-13; 8:45 am]

BILLING CODE 7590-01-P